DEPARTMENT OF LABOR

Employment and Training Administration

[TA-W-80,399; TA-W-80,399A]

CalAmp Wireless Networks Corporation (CWNC), Satellite Products Division, Including On-Site Leased Workers From Select Staffing, Oxnard, CA; CalAmp Wireless Networks Corporation (CWNC), Including On-Site Leased Workers From Spherion Staffing, Waseca, MN; Amended Certification Regarding Eligibility To Apply for Worker Adjustment Assistance

In accordance with Section 223 of the Trade Act of 1974, as amended (“Act”), 19 U.S.C. 2273, the Department of Labor issued a Certification of Eligibility to Apply for Worker Adjustment Assistance on December 2, 2011, applicable to workers of CalAmp Products, Inc., Satellite Products Division, including on-site leased workers from Select Staffing, Oxnard, California (TA-W-80,399). The workers are engaged in the production of converter/amplifiers for satellite television. The Department's Notice was published in the Federal Register on December 13, 2011 (76 FR 77556).

At the request of the State of Minnesota, the Department reviewed the certification for workers and former workers of CalAmp Products, Inc., Satellite Products Division, Oxnard, California.

New information shows that, following a corporate merger in March 2012, the correct legal name of the subject firm located in Waseca, Minnesota and Oxnard, California should read CalAmp Wireless Networks Corporation (CWNC), and that the manufacturing of wireless networking products was transferred from the Waseca, Minnesota location of the subject firm to Oxnard, California in order to better utilize plant capacity at the Oxnard, California facility that was available following the shift of production from the Oxnard, California facility to a foreign country. The Waseca, Minnesota location is currently being shut down.

Accordingly, the Department is amending the certification to correctly identify the name of the subject firm in its entirety and to include the Waseca, Minnesota location of the subject firm and leased workers from Spherion Staffing working on-site at the Waseca, Minnesota facility.

The amended notice applicable to TA-W-80,399 is hereby issued as follows:

“All workers of CalAmp Wireless Networks Corporation (CWNC), Satellite Products Division, including on-site leased workers from Select Staffing, Oxnard, California (TA-W-80,399) and CalAmp Wireless Networks Corporation (CWNC), including on-site leased workers from Spherion Staffing, Waseca Minnesota (TA-W-80,399A), who became totally or partially separated from employment on or after August 18, 2010 through December 2, 2013, and all workers in the group threatened with total or partial separation from employment on date of certification through two years from the date of certification, are eligible to apply for adjustment assistance under Chapter 2 of Title II of the Trade Act of 1974, as amended.”

Signed at Washington, DC, this 16th day of November, 2012.
Elliott S. Kushner,
Certifying Officer, Office of Trade Adjustment Assistance.

[FR Doc. 2013-00102 Filed 1-7-13; 8:45 am]

BILLING CODE 4510-FN-P